ENVIRONMENTAL PROTECTION AGENCY

[EPA-HQ-OAR-2004-0489; FRL-13052-01-OMS]

Agency Information Collection Activities; Submission to the Office of Management and Budget for Review and Approval; Comment Request; Air Emissions Reporting Requirements (Renewal)

AGENCY: Environmental Protection Agency (EPA).

ACTION: Notice.

SUMMARY: The Environmental Protection Agency (EPA) has submitted an information collection request (ICR), Air Emissions Reporting Requirements (EPA ICR Number 2170.09, OMB Control Number 2060-0580) to the Office of Management and Budget (OMB) for review and approval in accordance with the Paperwork Reduction Act. This is a proposed extension of the ICR, which is currently approved through October 31, 2025. Public comments were previously requested via the Federal Register on June 5, 2025, during a 60-day comment period (90 FR 23932). This notice allows for an additional 30 days for public comments.

DATES: Comments may be submitted on or before December 1, 2025.

ADDRESSES: Submit your comments, referencing Docket ID Number EPA-HQ-OAR-2004-0489, to EPA online using www.regulations.gov (our preferred method), by email to houyoux.marc@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Marc Houyoux, Air Quality Assessment Division, Office of Air Quality Planning and Standards, C339-02, Environmental Protection Agency, 109 TW Alexander Drive, RTP, NC 27711; telephone number: (919) 541-3649; email address: houyoux.marc@epa.gov.

SUPPLEMENTARY INFORMATION: This is a proposed extension of the ICR, which is currently approved through October 31, 2025. An agency may not conduct or sponsor and a person is not required to respond to a collection of information unless it displays a currently valid OMB control number.

Public comments were previously requested via the Federal Register on June 5, 2025, during a 60-day comment period (90 FR 23932). This notice allows for an additional 30 days for public comments. Supporting documents, which explain in detail the information that the EPA will be collecting, are available in the public docket for this ICR. The supporting documents include a response to comments document that compiles and responds to comments received in the first notice. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA promulgated the Air Emissions Reporting Requirements (AERR) (40 CFR part 51, subpart A) to coordinate emissions inventory reporting requirements. Under this reporting, 54 State and territorial air quality agencies, including the District of Columbia, as well as an estimated 9 local air quality agencies, must submit emissions data every 3 years for all point sources and some non-point, on-road mobile, and non-road mobile sources of volatile organic compounds, oxides of nitrogen, carbon monoxide, sulfur dioxide, particulate matter less than or equal to 10 micrometers in diameter, particulate matter less than or equal to 2.5 micrometers in diameter, ammonia, and lead. In addition, the air quality agencies must submit annual emission data for point sources for a subset of point sources every year. An estimated 5 Tribal air agencies voluntarily submit point and nonpoint sources in triennial years.

The data collected from the emission reporting is necessary to compile and make publicly available a national inventory of air pollutant emissions. The information collected supports both EPA's implementation of the CAA, and State/Local/Tribal air agencies in fulfilling their requirements under CAA sections 110(a), 172, 182, 187, and 189 to implement primary and secondary national ambient air quality standards (NAAQS). A comprehensive inventory updated at regular intervals is essential to allow the EPA to fulfill its mandate to monitor and plan for the attainment and maintenance of the NAAQS established for criteria pollutants in the CAA.

Form Numbers: None.

Respondents/affected entities: Entities potentially affected by this collection request are generally State, territorial, and local government air quality managements programs. Tribal governments are not affected unless they have sought and obtained “Treatment as a State” (TAS) status under the Tribal Authority Rule and, on that basis, are authorized to implement and enforce the AERR rule. For the most recent 2023 triennial inventory, no Tribes have TAS for emissions inventory reporting, and 2 Tribal agencies voluntarily reported to the NEI.

Additionally, State and local agencies collect data from owners/operators to be able to provide it to the EPA. The EPA seeks information from State and local air agencies to indicate the degree to which emissions data collection is due to the AERR rather than something that these agencies would impose even in the absence of the AERR.

Respondent's obligation to respond: This information is collected under 23 U.S.C. 101; 42 U.S.C. 7401-7671q, and the authority of the AERR. This information is mandatory and, as specified, cannot be treated as confidential by the EPA.

Estimated number of respondents: 68 (total including voluntarily reporting) State, local and Tribal agencies and 12,379 owners/operators reporting to State and local agencies.

Frequency of response: Annual.

Total estimated burden: 53,482 hours (per year) including 7,865 voluntary hours (per year) for State, local, and Tribal air agencies and 145,077 hours (per year) for owners/operators including 84 voluntary hours (per year). Burden is defined at 5 CFR 1320.03(b).

Total estimated cost: $19,854,038 (per year) for State, local, and Tribal air agencies, which includes $712,432 for voluntary activities and $15,130,399 annualized capital or operation and maintenance costs. $16,578,243 (per year) for owners/operators.

Changes in the estimates: There is an increase of 4,780 hours in the total estimated respondent burden for State, local, and Tribal air agencies and an increase of 145,077 hours for owners/operators compared with the ICR currently approved by OMB. This increase for State, local, and Tribal air agencies is due to improvements in the way the EPA estimates the burden. The increase for owners/operators is due to including the burden on owners/operators for the first time in the approach.

Courtney Kerwin,
Director, Information Engagement Division.

[FR Doc. 2025-19733 Filed 10-30-25; 8:45 am]

BILLING CODE 6560-50-P